DEPARTMENT OF HOMELAND SECURITY

Federal Emergency Management Agency

44 CFR Part 65

[Docket ID FEMA-2010-0003; Internal Agency Docket No. FEMA-B-1160]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona: Maricopa | City of Tempe (10-09-2035P) | September 16, 2010, September 23, 2010, Arizona Business Gazette | The Honorable Hugh Hallman, Mayor, City of Tempe, 31 East 5th Street, Tempe, AZ 85281 | January 21, 2011 | 040054
Arizona: Mojave | Fort Mojave Indian Reservation (10-09-1826P) | September 10, 2010, September 17, 2010, The Kingman Daily Miner | Mr. Timothy Williams, Chairman, Fort Mojave Indian Reservation, 500 Merriman Avenue, Needles, CA 92363 | August 31, 2010 | 040133
Arizona: Pinal | Town of Florence (10-09-1057P) | September 24, 2010, October 1, 2010, Casa Grande Dispatch | The Honorable Vikki Kilvinger, Mayor, Town of Florence, 775 North Main Street, Florence, AZ 85232 | January 31, 2011 | 040084
Arizona: Yavapai | Unincorporated areas of Yavapai County (10-09-0965P) | August 27, 2010, September 3, 2010, The Daily Courier | Mr. Chip Davis, Chairman, Yavapai County Board of Supervisors, 10 South 6th Street, Cottonwood, AZ 86326 | January 3, 2011 | 040093
California: Riverside | City of Riverside (10-09-0680P) | September 3, 2010, September 10, 2010, The Press-Enterprise | The Honorable Ronald O. Loveridge, Mayor, City of Riverside, 3900 Main Street, Riverside, CA 92522 | August 27, 2010 | 060260
Colorado: Jefferson | Unincorporated areas of Jefferson County (10-08-0546P) | September 16, 2010, September 23, 2010, Westminster Window | Ms. Kathy Hartman, Chair, Jefferson County Board of Commissioners, 100 Jefferson County Parkway, Golden, CO 80419 | January 21, 2011 | 080087
Colorado: Jefferson | City of Westminster (10-08-0546P) | September 16, 2010, September 23, 2010, Westminster Window | The Honorable Nancy McNally, Mayor, City of Westminster, 4800 West 92nd Avenue, Westminster, CO 80031 | January 21, 2011 | 080008
Colorado: Pueblo | City of Pueblo (10-08-0862P) | September 3, 2010, September 10, 2010, The Pueblo Chieftain | Mr. Lawrence Atencio, President, Pueblo City Council, 1 City Hall Place, Pueblo, CO 81003 | January 10, 2011 | 085077
Florida: Lake | City of Clermont (10-04-4299P) | September 3, 2010, September 10, 2010, Daily Commercial | The Honorable Harold Turville, Jr., Mayor, City of Clermont, 685 West Montrose Street, Clermont, FL 34711 | January 10, 2011 | 120133
Florida: Lake | Unincorporated areas of Lake County (10-04-4299P) | September 3, 2010, September 10, 2010, Daily Commercial | Mr. Welton G. Caldwell, Chairman, Lake County Board of Commissioners, Lake County, P.O. Box 7800, Tavares, FL 32778 | January 10, 2011 | 120421
Florida: Monroe | Unincorporated areas of Monroe County (10-04-5258P) | September 17, 2010, September 24, 2010, Key West Citizen | The Honorable Sylvia Murphy, Mayor, Monroe County, 1100 Simonton Street, Key West, FL 33040 | September 10, 2010 | 125129
Georgia: DeKalb | Unincorporated areas of DeKalb County (10-04-4217P) | September 9, 2010, September 16, 2010, The Champion Newspaper | Mr. W. Burrell Ellis, Jr., Chief Executive Officer, DeKalb County, 330 West Ponce De Leon Avenue, Decatur, GA 30030 | October 4, 2010 | 130065
Hawaii: Maui | Unincorporated areas of Maui County (10-09-1230P) | September 10, 2010, September 17, 2010, The Maui News | The Honorable Charmaine Tavares, Mayor, Maui County, 200 South High Street, 9th Floor, Wailuku, HI 96793 | January 18, 2011 | 150003
Kansas: Johnson | City of Leawood (10-07-2021P) | September 15, 2010, September 22, 2010, The Johnson County Sun | The Honorable Peggy J. Dunn, Mayor, City of Leawood, 4800 Town Center Drive, Leawood, KS 66211 | January 20, 2011 | 200167
North Carolina: Chatham | Unincorporated areas of Chatham County (10-04-0659P) | September 9, 2010, September 16, 2010, The Chatham News | Mr. Charlie Horne, Manager, Chatham County, P.O. Box 1809, 12 East Street, Pittsboro, NC 27312 | January 14, 2011 | 370299
North Carolina: Wake | Unincorporated areas of Wake County (09-04-2504P) | September 7, 2010, September 14, 2010, The News & Observer | Mr. David Cooke, Manager, Wake County, P.O. Box 550, Raleigh, NC 27602 | January 12, 2011 | 370368
Utah: Weber | City of Ogden (10-08-0035P) | September 3, 2010, September 10, 2010, Standard Examiner | The Honorable Matthew R. Godfrey, Mayor, City of Ogden, 2549 Washington Boulevard, Suite 910, Ogden, UT 84401 | January 10, 2011 | 490189

(Catalog of Federal Domestic Assistance No. 97.022, “Flood Insurance.”)

Dated: December 3, 2010.
Sandra K. Knight,
Deputy Federal Insurance and Mitigation Administrator, Mitigation, Department of Homeland Security, Federal Emergency Management Agency.

[FR Doc. 2010-31505 Filed 12-15-10; 8:45 am]

BILLING CODE 9110-12-P